DEPARTMENT OF THE INTERIOR

Fish and Wildlife Service

50 CFR Part 20

RIN 1018-AH67

Migratory Bird Hunting; Temporary Approval of Tin Shot as Nontoxic for Hunting Waterfowl and Coots During the 2000-2001 Season

AGENCY: Fish and Wildlife Service, Interior.

ACTION: Proposed rule; correction.

SUMMARY: The U.S. Fish and Wildlife Service (Service or we) published in the September 25, 2000, Federal Register, a proposal to grant temporary approval of tin shot as nontoxic for hunting waterfowl and coots during the 2000-01 hunting season. Inadvertently, the deadline for public comment was stated as November 24, 2000. This correction amends the deadline for public comment to October 24, 2000.

DATES: Comments on the proposed rule published September 25, 2000 (65 FR 57586) must be received no later than October 24, 2000.

ADDRESSES: You should submit comments on the proposed rule to the Chief, Office of Migratory Bird Management (MBMO), U.S. Fish and Wildlife Service, 1849 C Street, NW., ms 634-ARLSQ, Washington, DC 20240. You may inspect comments during normal business hours in Room 634, Arlington Square Building, 4401 N. Fairfax Drive, Arlington, Virginia.

FOR FURTHER INFORMATION CONTACT: Jon Andrew, Chief, Office of Migratory Bird Management, (703) 358-1714.

SUPPLEMENTARY INFORMATION: We published in the September 25, 2000, Federal Register (65 FR 57586), a proposal under the authority of the Migratory Bird Treaty Act (16 U.S.C. 703-712 and 16 U.S.C. 742a-j) to grant temporary approval of tin shot as nontoxic for hunting waterfowl and coots during the 2000-01 hunting season. Inadvertently, the deadline for public comment was stated as November 24, 2000, which provides for a 60-day comment period. The correct deadline for public comment is October 24, 2000. In the proposed rule, we stated that the comment period for the proposed rule had been shortened to 30 days. This timeframe will make it possible for tin shot, if temporarily approved, to be available for use by hunters during the 2000-01 hunting season, and will increase the number of nontoxic shot options available to hunters.

Dated: October 13, 2000.
Marshall P. Jones, Jr.,
Acting Director.

[FR Doc. 00-27108 Filed 10-20-00; 8:45 am]

BILLING CODE 4310-55-P